DEPARTMENT OF VETERANS AFFAIRS

[OMB Control No. 2900-New (VA Form (10-21047(NR)]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before November 6, 2006.

FOR FURTHER INFORMATION OR A COPY OF THE SUBMISSION CONTACT: Denise McLamb, Initiative Coordination Service (005G1), Department of Veterans Affairs, 810 Vermont Avenue, NW., Washington, DC 20420, (202) 565-8374, fax (202) 565-7870 or e-mail: denise.mclamb@mail.va.gov. Please refer to “OMB Control Number 2900-New (VA Form (10-21047(NR).”

Send comments and recommendations concerning any aspect of the information collection to VA's OMB Desk Officer, OMB Human Resources and Housing Branch, New Executive Office Building, Room 10235, Washington, DC 20503 (202) 395-7316. Please refer to “OMB Control Number 2900-New (VA Form (10-21047(NR).”

SUPPLEMENTARY INFORMATION: Title: VA Cooperative Studies Project #500A, National Registry of Veterans with Amyotrophic Lateral Sclerosis (ALS), VA Forms 10-21047, 10-21047a, and 10-21047b.

OMB Control Number: 2900-New (VA Form (10-21047(NR).

Type of Review: Extension of a currently approved collection.

Abstract: VA will use the amyotrophic lateral sclerosis registry to obtain epidemiological data on veterans affected with ALS and as a means to inform the veteran of clinical drug trials and studies.

An agency may not conduct or sponsor, and a person is not required to respond to a collection of information unless it displays a currently valid OMB control number. The Federal Register notice with a 60-day comment period soliciting comments on this collection of information was published on August 15, 2006 at page 46981-46982.

Affected Public: Individuals or households.

Estimated Annual Burden: 1,330.

Estimated Average Burden Per Respondent: 30 minutes.

Frequency of Response: Semi-annually.

Estimated Number of Respondents: 1,715.

Estimated Number of Responses: 2,740.

Dated: September 27, 2006.
By direction of the Secretary:
Denise McLamb,
Program Analyst, Initiative Coordination Service.

[FR Doc. E6-16506 Filed 10-5-06; 8:45 am]

BILLING CODE 8320-01-P